DEPARTMENT OF HEALTH AND HUMAN SERVICES

Health Resources and Services Administration

Ricky Ray Hemophilia Relief Fund Program Procedure for Augmenting Petitions and Reminder of Termination Date of Fund

AGENCY: Health Resources and Services Administration, HHS.

ACTION: Notice.

SUMMARY: The purpose of this notice is to announce the procedure for the augmentation of petitions filed with the Ricky Ray Hemophilia Relief Fund Program, postmarked by the November 13, 2001, statutory deadline, for which an initial payment decision has been made; and to remind the public of the November 12, 2003, termination date of the Ricky Ray Hemophilia Relief Fund.

DATES: The termination date of the Ricky Ray Trust Fund is November 12, 2003.

ADDRESSES: All documentation to augment eligible petitions must be submitted to the Ricky Ray Program, Bureau of Health Professions, Health Resources and Services Administration, Room 4-81, Parklawn Building, 5600 Fishers Lane, Rockville, Maryland 20857.

FOR FURTHER INFORMATION CONTACT: Paul T. Clark, Director, Ricky Ray Program, Bureau of Health Professions, Health Resources and Services Administration, (301) 443-2330.

SUPPLEMENTARY INFORMATION: The order of the review and payment decision of any specific petition filed with the Ricky Ray Program was based on the postmark date of the petition. The facts related to the petition may have changed over time subsequent to the payment decision. This document addresses how the Ricky Ray Program will handle new information that becomes available before the Ricky Ray Trust Fund terminates on November 12, 2003, where the new information may change the payment decision of a petition that has been approved for a payment of less than $100,000, or a disapproved petition.

This document also reminds the public of the termination date of the Ricky Ray Hemophilia Relief Fund, November 12, 2003. This date is governed by section 101(d) of the Act, which states that the Fund shall terminate upon the expiration of the 5-year period beginning on the date of enactment of the Act on November 12, 1998. The unobligated funds remaining at the end of this period shall be deposited in the miscellaneous receipts account in the Treasury of the United States.

Background

The Ricky Ray Program implements the Ricky Ray Hemophilia Relief Fund Act of 1998 (the Act), Pub. Law 105-369. The Act provides for compassionate payments to individuals with blood-clotting disorders, such as hemophilia, who were treated with antihemophilic factor between July 1, 1982 and December 31, 1987, and contracted human immunodeficiency virus (HIV), as well as to certain persons who contracted HIV from these individuals. In the event individuals eligible for payment are deceased, the Act also provides for payments to certain survivors of these individuals.

Petition payment determinations under the Act are based upon the documents that were included in a petition as of the date the petition was reviewed. As a result, some petitions were approved for a payment of less than $100,000 or were disapproved because the documentation submitted with the petition did not support a payment of $100,000.

The Act stipulates that petitions are to be reviewed in the order received. To comply with this legislative mandate, the Ricky Ray Program developed and implemented its petition review process whereby petitions would be randomly numbered by the postmark date and reviewed in accordance with the randomly assigned number. The Program also decided to make payments as soon as possible after all July 31, 2000, postmarked petitions were in-house, rather than waiting until after the filing deadline date, November 13, 2001, to begin making payments. These decisions addressed a series of Program-related factors such as: the mortality of the target population, the initial amount of $75 million appropriated for the Program in fiscal year 2000, and the uncertainty of future appropriations.

The Act and its regulations recognize that petitions may be affected by circumstances beyond petitioners' control that could impact a payment decision. Section 130.24 (a) of the Ricky Ray Program's Final Rule with Amendments (66 FR 58667) states that where a petition raises an eligibility or payment question, “the Secretary may require the petitioner to provide other documentation, as the Secretary deems appropriate, to resolve issues of eligibility, or of the procedure for payment, raised by a petition.” This regulatory provision allows a petitioner to augment a petition with new documents or additional information from any source provided that the petition was postmarked on or before November 13, 2001. The Act and its regulations also provide for a two-year period between the final postmark date and the date when the Program's Trust Fund terminates. This authority permits the Secretary to review the most recent documentation available to resolve any eligibility or payment issue relating to an approval or disapproval decision on a petition.

The Ricky Ray Program, by statute, is authorized to pay $100,000 on behalf of an eligible individual with HIV. In the case of multiple survivors, i.e., children or parents, the $100,000 payment must be divided in equal shares among that class of survivors. There are petitioner survivors whose petitions only included documentation that supported their portion of the payment of $100,000.

Criteria for Augmentation

The following criteria must be met in order for a petition to be eligible for augmentation.

1. Only a petition postmarked by November 13, 2001, and, therefore, included in the Ricky Ray Program system of records, may be augmented.

The Ricky Ray Program regulations stipulate that petitions submitted to the Program must be postmarked between July 31, 2000, and November 13, 2001. Petitions postmarked during this period of time were given a petition number and recorded in the Program's system of records.

2. Only a petitioner, a petitioner's personal representative, or a disinterested third party, such as a court, a hospital, or a state department of vital statistics, may augment a petition.

A petitioner, a petitioner's personal representative, or a disinterested third party may augment a petition with documentation that could affect the Program's petition payment decision. The documentation or information that augments the petition must be received by the Program in sufficient time before November 12, 2003, to allow for review and processing before the Fund terminates.

In implementing this procedure with regard to payment decisions for survivors of eligible individuals, the Ricky Ray Program will make payments in accordance with section 103(c)(2)(A) of the Act, which establishes a hierarchy of survivors, as follows:

1. Surviving spouse.

2. Child(ren) in equal shares if there is no surviving spouse.

3. Parent(s) in equal shares if there are no surviving spouse or surviving children.

Documentation Required for Augmentation

The documentation or information that the Program may consider when a petitioner, petitioner's personal representative, or the disinterested third party augments a petition includes, but is not limited to:

1. A court order determining that the other surviving parent's parental rights have been terminated.

2. A death certificate of the other eligible survivor(s).

3. Other evidence establishing eligibility for the full payment, such as: (a) An order from a court of competent jurisdiction documenting that the survivor is the sole survivor of the eligible individual; (b) documentation that supports the existence of a relationship between a survivor and an eligible individual, which may, in some circumstances, include Social Security, Department of Veterans Affairs or Department of Defense benefits to survivors; (c) documentation that the medical requirements necessary for eligibility have been met.

Any documentation submitted by a petitioner, a petitioner's personal representative, or a disinterested third party to augment a petition must be received by the Ricky Ray Program in sufficient time to allow for processing and payment prior to the Trust Fund's termination date of November 12, 2003. No payments will be made after that date.

Examples of how this augmentation procedure will be implemented are available on the Ricky Ray Program website at: http://www.hrsa.gov/bhpr/rickyray.

Paperwork Reduction Act

The information collection requirements for the Ricky Ray Homphilia Relief Fund (42 CFR part 130) have been approved under OMB No. 0915-0244.

Dated: September 24, 2002.
Elizabeth M. Duke,
Administrator.

[FR Doc. 02-24953 Filed 10-1-02; 8:45 am]

BILLING CODE 4165-15-P